CONSUMER FINANCIAL PROTECTION BUREAU

12 CFR Part 1022

[Docket No. CFPB-2024-0057]

Fair Credit Reporting Act (Regulation V); Identity Theft and Coerced Debt; Extension of Comment Period

AGENCY: Consumer Financial Protection Bureau.

ACTION: Advance notice of proposed rulemaking; extension of comment period.

SUMMARY: On December 13, 2024, the Consumer Financial Protection Bureau (CFPB) published in the Federal Register an Advance Notice of Proposed Rulemaking (ANPR) seeking information in advance of preparing a proposed rule to address concerns related to information furnished to credit bureaus and other consumer reporting agencies as a result of coercion. The ANPR provided a comment period that was set to close on March 7, 2025. To allow interested persons more time to consider and submit their comments, the CFPB has determined that an extension of the comment period until April 7, 2025, is appropriate.

DATES: The end of the comment period for the ANPR published at 89 FR 100922 (December 13, 2024) is extended from March 7, 2025, until April 7, 2025.

ADDRESSES: You may submit responsive information and other comments, identified by Docket No. CFPB-2024-0057 by any of the following methods:

1. Federal eRulemaking Portal: https://www.regulations.gov. Follow the instructions for submitting comments.

2. Email: ANPR-Coerced-Debt@cfpb.gov. Include Docket No. CFPB-2024-0057 in the subject line of the message.

3. Mail/Hand Delivery/Courier: Comment Intake—Identity Theft and Coerced Debt, c/o Legal Division Docket Manager, Consumer Financial Protection Bureau, 1700 G Street NW, Washington, DC 20552.

Instructions: The CFPB encourages the early submission of comments. All submissions should include the agency name and docket number. Because paper mail is subject to delay, commenters are encouraged to submit comments electronically. In general, all comments received will be posted without change to https://www.regulations.gov.

All submissions, including attachments and other supporting materials, will become part of the public record and subject to public disclosure. Proprietary information or sensitive personal information, such as account numbers or Social Security numbers, or names of other individuals, should not be included. Submissions will not be edited to remove any identifying or contact information.

FOR FURTHER INFORMATION CONTACT: Laura Stack, Senior Counsel, Office of Regulations, at 202-435-7700 or https://reginquiries.consumerfinance.gov/. If you require this document in an alternative electronic format, please contact CFPB_Accessibility@cfpb.gov.

SUPPLEMENTARY INFORMATION: On December 9, 2024, the CFPB issued an ANPR seeking information in advance of preparing a proposed rule to address concerns related to information furnished to credit bureaus and other consumer reporting agencies as a result of coercion. More specifically, the ANPR solicits information on amending the definitions of “identity theft” and “identity theft report” in Regulation V, which implements the Fair Credit Reporting Act, as well as other related amendments to Regulation V. The ANPR was published in the Federal Register at 89 FR 100922 on December 13, 2024. The ANPR provided a public comment period that was set to close on March 7, 2025. To allow interested persons more time to consider and submit their comments, the CFPB has determined that an extension of the comment period until April 7, 2025, is appropriate. The NPRM comment period will now close on April 7, 2025.

Russell T. Vought,
Acting Director, Consumer Financial Protection Bureau.

[FR Doc. 2025-03685 Filed 3-6-25; 8:45 am]

BILLING CODE 4810-AM-P